DEPARTMENT OF TRANSPORTATION

National Highway Traffic Safety Administration

[Docket No. NHTSA 2005-21926; Notice 2]

Cooper Tire & Rubber Company, Grant of Petition for Decision of Inconsequential Noncompliance

Cooper Tire & Rubber Company (Cooper) has determined that the markings on certain tires that it produced in 2004 and 2005 do not comply with S4.3(a) of 49 CFR 571.109, Federal Motor Vehicle Safety Standard (FMVSS) No. 109, “New pneumatic tires.” Pursuant to 49 U.S.C. 30118(d) and 30120(h), Cooper has petitioned for a determination that this noncompliance is inconsequential to motor vehicle safety and has filed an appropriate report pursuant to 49 CFR part 573, “Defect and Noncompliance Reports.” Notice of receipt of a petition was published, with a 30-day comment period, on July 29, 2005 in the Federal Register (70 FR 43934). NHTSA received no comments.

Affected are a total of approximately 2,606 Cooper Discoverer AST II tires in the 265/70R16 size, produced between October 10, 2004 and April 16, 2005. S4.3, Labeling requirements, requires compliance with 49 CFR 574.5, “Tire Identification and Record Keeping, Tire Identification Requirements.” The size designation required by Part 574.5 was incorrectly marked on the subject tires, which were molded with the letters “TY” as the second grouping of symbols in the tire identification number. The correct stamping should have been “C2.”

Cooper believes that the noncompliance is inconsequential to motor vehicle safety and that no corrective action is warranted. Cooper states that the purpose of the tire identification number marking requirements is to facilitate the ability of the tire manufacturer to identify the tires in the event of a recall. Cooper asserts that the incorrect size designation in this case does not affect the ability to identify defective or nonconforming tires. Cooper points out that the tire size is correctly stamped on the sidewalls of the subject tires, and states that the tires comply with all other requirements of FMVSS No. 109 and 49 CFR 574.5.

NHTSA agrees with Cooper that the noncompliance is inconsequential to motor vehicle safety. As Cooper points out, the tires do have sidewall markings which provide the correct size for the user of this information. In addition, the incorrect marking does not affect the ability to identify the tires in the event of recall. Cooper has corrected the problem.

In consideration of the foregoing, NHTSA has decided that the petitioner has met its burden of persuasion that the noncompliance described is inconsequential to motor vehicle safety. Accordingly, Cooper's petition is granted and the petitioner is exempted from the obligation of providing notification of, and a remedy for, the noncompliance.

(Authority: 49 U.S.C. 30118, 30120; delegations of authority at CFR 1.50 and 501.8)

Issued on: September 2, 2005.
Ronald L. Medford,
Senior Associate Administrator for Vehicle Safety.

[FR Doc. 05-17903 Filed 9-8-05; 8:45 am]

BILLING CODE 4910-59-P